DEPARTMENT OF ENERGY

Federal Energy Regulatory Commission

[Docket No. CP06-71-002]

Carolina Gas Transmission Corporation; SCG Pipeline, Inc.; South Carolina Pipeline Corporation; Notice of Tariff Cancellation

October 12, 2006.

Take notice that on September 29, 2006, SUG Pipeline, Inc. (SUG) tendered for filing a tariff sheet to cancel its FERC Gas Tariff, including its rate schedules. SCG requests that the cancellation be effective November 1, 2006.

SCG states that any charges or customer credits that are attributable to the service provided by SCG prior to November 1, 2006, but not settled as of November 1, 2006, will be charged or paid as soon after November 1 as practicable.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on October 17, 2006.

Magalie R. Salas,
Secretary.

[FR Doc. E6-17460 Filed 10-18-06; 8:45 am]

BILLING CODE 6717-01-P